DEPARTMENT OF TRANSPORTATION

Federal Aviation Administration

Commercial Space Transportation Advisory Committee; Renewal

AGENCY: Federal Aviation Administration (FAA), DOT.

ACTION: Notice of renewal.

SUMMARY: Pursuant to section 14(a)(2)(A) of the Federal Advisory Committee Act (Pub. L. 92-463, 5 U.S.C. App. 2), and 5 U.S.C. 552b(c), and in accordance with section 102-3.65, title 41 of the Code of Federal Regulations, notice is hereby given that the Commercial Space Transportation Advisory Committee (COMSTAC) has been renewed for a 2-year period beginning November 15, 2008. The primary purpose of the Committee is to provide information, advice, and recommendations to the U.S. Department of Transportation (DOT) on matters concerning the U.S. commercial space transportation industry. The primary goals of the Committee are to evaluate economic, technological, and institutional developments relating to the industry; to provide a forum for the discussion of problems involving the relationship between industry activities and government requirements; and to make recommendations to DOT on issues and approaches for Federal policies and programs regarding the industry. The Committee will operate in accordance with the rules of the Federal Advisory Committee Act and the Department of Transportation, FAA Committee Management Order (1110.30C).

FOR FURTHER INFORMATION CONTACT: Brenda Parker (AST-100), COMSTAC Executive Director, Office of Commercial Space Transportation, 800 Independence Avenue, SW., Room 331, Washington, DC 20591, telephone: (202) 267-3674; e-mail: brenda.parker@faa.dot.gov.

Issued in Washington, DC, November 7, 2008.
George C. Nield,
Associate Administrator for Commercial Space Transportation.

[FR Doc. E8-27153 Filed 11-14-08; 8:45 am]

BILLING CODE 4910-13-P